DEPARTMENT OF ENERGY

Federal Energy Regulatory Commission

Combined Notice of Filings

Take notice that the Commission has received the following Natural Gas Pipeline Rate and Refund Report filings:

Filings Instituting Proceedings

Docket Numbers: RP23-376-000.

Applicants: Florida Public Utilities Company, Chesapeake Utilities Corporation—Central Florida Gas Division.

Description: Joint Petition for Limited Waiver of Capacity Release Regulations, et al. of Florida Public Utilities Company, et al.

Filed Date: 1/27/23.

Accession Number: 20230127-5090.

Comment Date: 5 p.m. ET 2/8/23.

Docket Numbers: RP23-377-000.

Applicants: WBI Energy Transmission, Inc.

Description: § 4(d) Rate Filing: 2023 Section 4 Rate Case to be effective 3/1/2023.

Filed Date: 1/27/23.

Accession Number: 20230127-5150.

Comment Date: 5 p.m. ET 2/8/23.

Docket Numbers: RP23-378-000.

Applicants: Ruby Pipeline, L.L.C.

Description: § 4(d) Rate Filing: RP 2023-01-27 FL&U and EPC Rate Adjustment to be effective 3/1/2023.

Filed Date: 1/27/23.

Accession Number: 20230127-5179.

Comment Date: 5 p.m. ET 2/8/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1222-002.

Applicants: Natural Gas Pipeline Company of America LLC.

Description: Compliance filing: Settlement Compliance—Implementation of Other Tariff Provisions to be effective 4/1/2023.

Filed Date: 1/30/23.

Accession Number: 20230130-5094.

Comment Date: 5 p.m. ET 2/13/23.

Docket Numbers: RP23-295-001.

Applicants: ANR Pipeline Company.

Description: Compliance filing: AXP Notice of Inservice in Docket Nos. CP20-484, CP20-485 and RP23-295 to be effective 1/19/2023.

Filed Date: 1/27/23.

Accession Number: 20230127-5188.

Comment Date: 5 p.m. ET 2/8/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2023.
Debbie-Anne A. Reese,
Deputy Secretary.

[FR Doc. 2023-02290 Filed 2-2-23; 8:45 am]

BILLING CODE 6717-01-P